DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 28, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Uniform Grant Application for Non-Entitlement Discretionary Grants.

OMB Control Number: 0584-0512.

Summary of Collection: The Food and Nutrition Service (FNS) has a number of non-entitlement discretionary grant programs to collect the information from grant applicants needed to evaluate and rank applicants and protect the integrity of the grantee selection process. All FNS discretionary grant programs will be eligible, but not required to use the uniform grant application package. The authorities for these grants vary. The term “grant” in this submission refers only to non-entitlement discretionary competitive and non-competitive grants or cooperative agreements. Discretionary grant announcements include a number of information collections, including the submission of associated State Plan information and the use of program-specific forms, including but not limited to, Form FNS-887 Farm to School Coversheet, the Farm to School Baseline Report, and the Farm to School Final Report; a “project description” (program narrative), budget information SF425, disclosure of lobbying activities certification SF LLL, and disclosure of Corporate Felony Convictions and Corporate Federal Tax Delinquencies. The requirements for the program narrative statement are based on the requirements for program narrative statements described in section 1.c (5) of OMB Circular A-102 and OMB A-110 (as implemented at USDA 7 CFR part 3015, 3016 and 3019); and will apply to all types of grantees; State and local governments, non-profit organizations, institutions of higher education, hospitals, and for-profit organizations.

If FNS decides to use the uniform grant application package, FNS will note in the grant solicitation that applicants must use the uniform grant application package and that the information collection has already been approved by OMB. If FNS decides not to use the uniform grant application package or determines that it needs grant applicants to provide additional information not contained in the uniform package, then FNS will publish at least a 30 day notice soliciting comments on its proposal to collect different or additional information before making the grant solicitation, if not already discussed in previously published notices.

Through this Federal Register Notice, FNS is notifying the public of additional grants and forms added to this Information Collection Request (ICR) since the associated 60-day FR Notice was published on (April 19, 2022) at (87 FR 23160). The additional grants and total burden hours for each one added to this ICR since the 60-day FR Notice include the following: (1) Center for Food Safety Research in Child Nutrition grant, 260, (2) Special Supplemental Nutrition Program for Women, Infants and Children—Breastfeeding, 820, (3) Special Supplemental Nutrition Program for Women, Infants and Children—Special Projects, 726, (4) SNAP Income Improvements and Verification Grant, 882, (5) Special Supplemental Nutrition Program for Women, Infants and Children—Technology grants, 6678, (6) Institute of Child Nutrition Annual Food Safety Cooperative Agreement (SNAS Office of Food Safety), 70, (7) Special Supplemental Nutrition Program for Women, Infants and Children—WIC online shopping Technical Assistance and subgrantees, 1328, (8) Special Supplemental Nutrition Program for Women, Infants and Children—Community innovation and outreach grant and subgrantees, 3680, (9) SNAP E&T National Partnership Grants, 882, (10) Healthy Meals Incentives 19,951.

Need and Use of the Information: The primary users of the information collected from the applicant are FNS and other Federal staff who will serve on a panel to systematically review, evaluate, and approve the competitive and non-competitive grant/cooperative agreement applications and recommend the applicants most likely to meet program objectives and most responsive to the solicitation. The selection criteria will be contained in the Request for Application package. Without this information, FNS will not have adequate data to select appropriate grantees or evaluate which grants should be continued or monitor financial reporting requirements.

Description of Respondents: State, Local, or Tribal Government (6,426); Business or other for-profit; Not for profit institutions (541).

Number of Respondents: 6,967.

Frequency of Responses: Reporting: annually, (one-time); quarterly, on occasion.

Total Burden Hours: 1,500,000.

Ruth Brown,
Departmental Information Collection Clearance Officer.

[FR Doc. 2022-13722 Filed 6-27-22; 8:45 am]

BILLING CODE 3410-30-P